DEPARTMENT OF COMMERCE

National Oceanic and Atmospheric Administration

[RTID 0648-XF059]

Marine Mammals; File No. 29017

AGENCY: National Marine Fisheries Service (NMFS), National Oceanic and Atmospheric Administration (NOAA), Commerce.

ACTION: Notice; receipt of application.

SUMMARY: Notice is hereby given that Alaska Department of Fish and Game, P.O. Box 25526, Juneau, AK 99802, (Responsible Party: Lori Quakenbush, Ph.D.), has applied in due form for a permit to conduct research on seven whale species.

DATES: Written comments must be received on or before October 16, 2025.

ADDRESSES: The application and related documents are available for review by selecting “Records Open for Public Comment” from the “Features” box on the Applications and Permits for Protected Species home page, https://apps.nmfs.noaa.gov, and then selecting File No. 29017 from the list of available applications. These documents are also available upon written request via email to NMFS.Pr1Comments@noaa.gov.

Written comments on this application should be submitted via email to NMFS.Pr1Comments@noaa.gov. Please include File No. 29017 in the subject line of the email comment.

Those individuals requesting a public hearing should submit a written request via email to NMFS.Pr1Comments@noaa.gov. The request should set forth the specific reasons why a hearing on this application would be appropriate.

FOR FURTHER INFORMATION CONTACT: Amy Hapeman or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct research on whales in the Bering, Chukchi, and Beaufort Seas (U.S. and international waters) adjacent to Alaska. Target species include: beluga (Delphinapterus leucas), endangered bowhead (Balaena mysticetus), endangered fin (Balaenoptera physalus), endangered gray (Eschrichtius robustus), threatened and endangered humpback (Megaptera novaeangliae), killer (Orcinus orca), and minke (Balaenoptera acutorostrata) whales. Research topics would include movements, habitat use, individual and stock identification, population abundance, health, hormone analysis, and behavior relative to environmental conditions and human-caused disturbances. Researchers would conduct vessel and drone surveys of whales for remote tagging (dart/barb, deep implant, or suction-cup); biopsy sampling; sloughed skin collection; photography; photo-identification; and observations. Biological samples collected on the high seas or in foreign waters would be imported into the United States. The applicant also requests to conduct aerial surveys and net captures for measurements, photography, biological sampling, and tagging (invasive and/or suction-cup) of four beluga whale stocks. Threatened bearded (Erignathus barbatus, Beringia distinct population segment), harbor (Phoca vitulina), threatened ringed (Pusa hispida, Arctic stock), and spotted (Phoca largha) seals and beluga whales may be unintentionally harassed, and some seal species may be unintentionally captured during research activities. Up to six unintentional beluga mortalities could occur during captures over the duration of the permit. See the application for numbers of animals requested by species, life stages, and procedures. The applicant also requests to collect, import, export, and/or receive parts of the above cetacean species and unidentified cetaceans for scientific research. The permit is requested for 10 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 11, 2025.
Shannon Bettridge,
Chief, Marine Mammal and Sea Turtle Conservation Division, Office of Protected Resources, National Marine Fisheries Service.

[FR Doc. 2025-17824 Filed 9-15-25; 8:45 am]

BILLING CODE 3510-22-P